DEPARTMENT OF THE INTERIOR

National Park Service

Notice of Intent to Repatriate Cultural Items: Thomas Burke Memorial Washington State Museum, University of Washington, Seattle, WA

AGENCY: National Park Service, Interior.

ACTION: Notice.

Notice is here given in accordance with the Native American Graves Protection and Repatriation Act (NAGPRA), 25 U.S.C. 3005, of the intent to repatriate cultural items in the possession of the Thomas Burke Memorial Washington State Museum (Burke Museum), University of Washington, Seattle, WA, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 1965, human remains representing a minimum of one individual were removed from south of the International District in Seattle, King County, WA. The human remains were transferred from the King County Coroner's Office to the Burke Museum in 1965 (Burke Accn. #1966-77). All human remains are now missing. No known individual was identified. The six unassociated funerary objects are one infant bracelet, two metal spoons, one brass button, one woman's shoe, and one glass ketchup bottle.

Before 1955, unassociated funerary objects were found between Bellevue and Renton in King County, WA. The objects were found during road construction and collected by Mrs. Willa W. Mylroie. The objects were donated to the Burke Museum in 1955 (Burke Accn. #3979). No known human remains are associated with the objects. The 124 unassociated funerary objects are 12 copper bracelets, 1 decorative brass clip, 4 glass beads, 15 brass buttons, 1 brass thimble, 1 can of vermillion, 89 trade beads, and 1 blanket fragment.

In 1892, an unassociated funerary object was removed from Bryn Mawr, King County, WA. The funerary object was collected by Frank E. Fuller and donated to the Burke Museum by the Washington World's Fair Commission in 1893 (Burke Accn. #1119). No known human remains are associated with the object. The one unassociated funerary object is a metal knife with incised bone handle.

The funerary objects were removed from the area surrounding Lake Washington primarily on the southern end. This area falls within the Southern Lushootseed language group of Salish cultures. The Duwamish people primarily occupied this area, specifically the Lake people (Swanton 1952:423). In the 1870s, as the City of Seattle developed, the Lake people were pushed out to other areas, including the Muckleshoot, Suquamish, and Tulalip reservations. The Lake people also joined the Snoqualmie people on Lake Sammamish and in the Snoqualmie River drainage (Miller and Blukis Onat 2004:109). Descendants of the Lake people are members of the present-day Muckleshoot Indian Tribe of the Muckleshoot Reservation, Washington; Snoqualmie Tribe, Washington; Suquamish Indian Tribe of the Port Madison Reservation, Washington; and Tulalip Tribes of the Tulalip Reservation, Washington.

In 1923, unassociated funerary objects were found near Kirkland, King County, WA. The objects were found under the roots of a tree and sent by Mrs. Loyal C. Wright to Professor Meany of the University of Washington. Prof. Meany subsequently transferred the objects to the Burke Museum in 1923 (Burke Accn. #2022). No known human remains are associated with the objects. The six unassociated funerary objects are four glass beads, one copper bracelet, and one brass button.

The above-mentioned funerary objects were removed from the northeastern shores of Lake Washington south of the mouth of the Sammamish River. This area falls within the Southern Lushootseed language group of Salish cultures. The Sammamish people primarily occupied this area (Ruby and Brown 1986, Suttles and Lane 1990, Swanton 1952). The Sammamish people were closely related to the Duwamish people and other tribes in the area. As per the terms of the 1855 Point Elliot Treaty, the Sammamish were assigned to go to the Tulalip Reservation. Many Sammamish people chose not to relocate to the Tulalip Reservation. The Sammamish people are represented by the present-day Muckleshoot Indian Tribe of the Muckleshoot Reservation, Washington; Snoqualmie Tribe, Washington; Suquamish Indian Tribe of the Port Madison Reservation, Washington; and Tulalip Tribes of the Tulalip Reservation, Washington.

Officials of the Burke Museum have determined that, pursuant to 25 U.S.C. 3001 (3)(B), the 137 cultural items described above are reasonably believed to have been placed with or near individual human remains at the time of death or later as part of the death rite or ceremony and are believed, by a preponderance of the evidence, to have been removed from a specific burial site of an Native American individual. Officials of the Burke Museum also have determined that, pursuant to 25 U.S.C. 3001 (2), there is a relationship of shared group identity that can be reasonably traced between the unassociated funerary objects and the Muckleshoot Indian Tribe of the Muckleshoot Reservation, Washington; Snoqualmie Tribe, Washington; Suquamish Indian Tribe of the Port Madison Reservation, Washington; and Tulalip Tribes of the Tulalip Reservation, Washington.

Representatives of any other Indian tribe that believes itself to be culturally affiliated with the unassociated funerary objects should contact Dr. Peter Lape, Burke Museum, University of Washington, Box 353010, Seattle, WA 98195-3010, telephone (206) 685-3849, before February 4, 2010. Repatriation of the unassociated funerary objects to the Muckleshoot Indian Tribe of the Muckleshoot Reservation, Washington; Snoqualmie Tribe, Washington; Suquamish Indian Tribe of the Port Madison Reservation, Washington; and Tulalip Tribes of the Tulalip Reservation, Washington may proceed after that date if no additional claimants come forward.

The Burke Museum is responsible for notifying the Muckleshoot Indian Tribe of the Muckleshoot Reservation, Washington; Snoqualmie Tribe, Washington; Suquamish Indian Tribe of the Port Madison Reservation, Washington; and Tulalip Tribes of the Tulalip Reservation, Washington that this notice has been published.

Dated: November 25, 2009
Sherry Hutt,
Manager, National NAGPRA Program.

[FR Doc. E9-31220 Filed 1ndash;4-10; 8:45 am]

BILLING CODE 4312-50-S